FEDERAL COMMUNICATIONS COMMISSION

Privacy Act System of Records

AGENCY: Federal Communications Commission (FCC or Commission).

ACTION: Notice; one new Privacy Act system of records.

SUMMARY: Pursuant to subsection (e)(4) of the Privacy Act of 1974, as amended (5 U.S.C. 552a), the FCC proposes to add a new system of records, FCC/MB-1, “Ownership Report for Commercial Broadcast Stations.” The FCC's Media Bureau (MB) will use the information contained in FCC/MB-1 to administer the FCC's regulatory responsibilities that relate to ownership of commercial broadcast stations, including AM and FM radio and television, as well as to interests in daily newspapers that are subject to the Commission's media ownership rules. The Commission uses these records in this system:

To address the data contained in responses to FCC Form 323, “Ownership Report for Commercial Broadcast Stations,” which the Commission uses to evaluate licensees' or permittees' compliance with the Commission's media ownership rules, etc. This form is filed:

To satisfy the biennial filing requirement (Biennial Ownership Report);

As a validation or resubmission of a previously filed Biennial Report;

In connection with the transfer of control or assignment of a broadcast station;

By a permittee (within 30 days of the grant of a construction permit grant) (“Permittee Report”) and on the date that it files its license application;

As an update or certification of accuracy of the initial Permittee Report; or

As an amendment of a previously filed Ownership Report.

To undertake studies of minority and female ownership that support its diversity policy goals and other ownership studies to support its statutory requirement to review the media ownership goals quadrennially to determine whether they are necessary in the public interest as the result of competition.

Any other uses of FCC Form 323 within the Commission's authority.

DATES: In accordance with 5 U.S.C. 552a(e)(4) and (e)(11) of the Privacy Act of 1974, as amended, any interested person may submit written comments concerning the routine uses of this system on or before December 21, 2009. Pursuant to Appendix I, 4(e) of OMB Circular A-130, the FCC is asking the Office of Management and Budget (OMB), which has oversight responsibility under the Privacy Act, to grant a waiver of the 40 day review period by OMB, the House of Representatives, and the Senate for this system of records. The FCC is requesting this waiver because the FCC has obtained OMB approval for a revised Form 323, which has been revised to allow the form to be used as the basis of studies of minority and female ownership as well as ownership studies to support the upcoming statutorily required 2010 quadrennial review of the Commission's media ownership rules. To allow trend studies to be undertaken, the Commission has set a uniform date as to when the information reported on the form must be current, October 1 of the applicable filing year. However, because of time required to obtain OMB approval, the Commission, on a one-time-only basis, changed the “as of” date to November 1, 2009. Public notice of OMB approval of the revised Form 323 was published in the Federal Register on October 30, 2009, and the revised form became effective on that date. The Commission has established a deadline of December 15, 2009 by which the form must be filed. The Commission established a filing deadline that is as early as possible so that studies based on the data may be commenced quickly. At the same time, the Commission sought to provide as much time as possible for the form to be available before the filing date so that the public has ample time to work with the revised form.

The proposed new system of records will become effective on December 21, 2009, unless the FCC receives comments that require a contrary determination. The FCC will publish a document in the Federal Register notifying the public if any changes are necessary. As required by 5 U.S.C. 552a(r) of the Privacy Act of 1974, as amended, the FCC is submitting reports on this proposed new system to OMB and to both Houses of Congress.

ADDRESSES: Address comments to Leslie F. Smith, Privacy Analyst, Performance Evaluation and Records Management (PERM), Room 1-C216, Federal Communications Commission (FCC), 445 12th Street, SW., Washington, DC 20554, (202) 418-0217, or via the Internet at Leslie.Smith@fcc.gov.

FOR FURTHER INFORMATION CONTACT: Leslie F. Smith, Performance Evaluation and Records Management (PERM), Room 1-C216, Federal Communications Commission, 445 12th Street, SW., Washington, DC 20554, (202) 418-0217 or via the Internet at Leslie.Smith@fcc.gov.

SUPPLEMENTARY INFORMATION: As required by the Privacy Act of 1974, as amended, 5 U.S.C. 552a(e)(4) and (e)(11), this document sets forth notice of the proposed new system of records maintained by the FCC. This notice is a summary of the more detailed information about the proposed new system of records, which may be viewed at the location given above in the ADDRESSES section. The purposes for adding this new system of records, FCC/MB-1, Ownership Report for Commercial Broadcast Stations,” are to enable the FCC's Media Bureau (MB) to administer the FCC's regulatory responsibilities that relate to ownership of commercial broadcast stations, including AM and FM radio and television, as well as to interests in daily newspapers that are subject to the Commission's media ownership rules. The Commission uses these records in this system:

(1) To address the data contained in responses to FCC Form 323, “Ownership Report for Commercial Broadcast Stations,” which the Commission uses to evaluate licensees' or permittees' compliance with the Commission's media ownership rules, etc. This form is filed:

(a) To satisfy the biennial filing requirement (Biennial Ownership Report);

(b) As a validation or resubmission of a previously filed Biennial Report;

(c) In connection with the transfer of control or assignment of a broadcast station;

(d) By a permittee (within 30 days of the grant of a construction permit grant) (“Permittee Report”) and on the date that it files its license application;

(e) As an update or certification of accuracy of the initial Permittee Report; or

(f) As an amendment of a previously filed Ownership Report.

(2) To undertake studies of minority and female ownership that support its diversity policy goals and other ownership studies to support its statutory requirement to review the media ownership goals quadrennially to determine whether they are necessary in the public interest as the result of competition.

(3) Any other uses of FCC Form 323 within the Commission's authority.

This notice meets the requirement documenting the proposed new system of records that is to be added to the systems of records that the FCC maintains, and provides the public, Congress, and the Office of Management and Budget with an opportunity to comment.

FCC/MB-1

SYSTEM NAME:

Ownership Report for Commercial Broadcast Stations.

SECURITY CLASSIFICATION:

The FCC's Security Operations Center (SOC) has not assigned a security classification to this system of records.

SYSTEM LOCATION:

Media Bureau (MB), Federal Communications Commission (FCC), 445 12th Street, SW., Washington, DC 20554.

CATEGORIES OF INDIVIDUALS COVERED BY THE SYSTEM:

(1) Licensees, permittees, and respondents, and other individuals or entities with interests therein that are required to be reported on the Form 323 (as described below) who must either file FCC Form 323 or have their interests reported on Form 323 under 47 CFR 73.3615, 73.6026, and 74.797;

(2) Contact individuals, e.g., representatives, relating to commercial AM, FM, and TV broadcast stations, and/or newspapers that are subject to the Commission's media ownership rules, as required under 47 CFR 73.3555, etc.;

(3) Individuals with ownership or attributable interests in media companies subject to the Commission's ownership rules or otherwise required to be reported on FCC Form 323;

(4) Individuals who are married to or otherwise related, i.e., parent-child or siblings, etc., to other individuals who have attributable, reportable, and/or ownership interests and who must either file FCC Form 323 or have their interests reported on FCC Form 323.

CATEGORIES OF RECORDS IN THE SYSTEM:

(1) Information that is required to be submitted on FCC Form 323, “Ownership Report for Commercial Broadcast Stations,” including the ownership or other interests of the licensee/permittee/respondent, home mailing address, home telephone number, home e-mail address, listing type, relationship to licensee/permittee/respondent/other interest holder, positional interest, marital/familial relationship, and gender, ethnicity, race, and citizenship, etc.;

(2) All exhibits, organizational charts, correspondence, i.e., letters, etc., supporting documentation, and other materials, etc., which are associated with processing the FCC Form 323, “Ownership Report for Commercial Broadcast Station,” submission(s); and

(3) Any other records that are submitted in connection with or created as the result of the filing of FCC Form 323.

AUTHORITY FOR MAINTENANCE OF THE SYSTEM:

47 CFR 73.3555, 73.3615, 73.6026, and 74.797.

PURPOSES:

The records are kept to administer the Federal Communications Commission's (FCC) regulatory responsibilities that relate to ownership of commercial broadcast stations, including AM and FM radio and television, as well as to interests in daily newspapers that are subject to the Commission's media ownership rules. The Commission uses these records in this system:

(1) To address the data contained in responses to FCC Form 323, “Ownership Report for Commercial Broadcast Stations,” which the Commission uses to evaluate licensees' or permittees' compliance with the Commission's media ownership rules, etc. This form is filed:

(a) To satisfy the biennial filing requirement (Biennial Ownership Report);

(b) As a validation or resubmission of a previously filed Biennial Report;

(c) In connection with the transfer of control or assignment of a broadcast station;

(d) By a permittee (within 30 days of the grant of a construction permit grant) (“Permittee Report”) and on the date that it files its license application;

(e) As an update or certification of accuracy of the initial Permittee Report; or

(f) As an amendment of a previously filed Ownership Report.

(2) To undertake studies of minority and female ownership that support its diversity policy goals and other ownership studies to support its statutory requirement to review the media ownership goals quadrennially to determine whether they are necessary in the public interest as the result of competition.

(3) Any other uses of FCC Form 323 within the Commission's authority.

ROUTINE USES OF RECORDS MAINTAINED IN THE SYSTEM, INCLUDING CATEGORIES OF USERS AND THE PURPOSES OF SUCH USES:

Information about individuals in this system of records may routinely be disclosed under the following conditions:

1. Public Access—under the rules of the Commission, documents filed under CDBS are publicly available;

2. Adjudication and Litigation—where by careful review, the agency determines that the records are both relevant and necessary to litigation and the use of such records is deemed by the agency to be for a purpose that is compatible with the purpose for which the agency collected the records, these records may be used by a court or adjudicative body in a proceeding when: (a) the agency or any component thereof; or (b) any employee of the agency in his or her official capacity; or (c) any employee of the agency in his or her individual capacity where the agency has agreed to represent the employee; or (d) the United States Government is a party to litigation or has an interest in such litigation;

3. Financial Obligations under the Debt Collection Acts—a record from this system may be disclosed to other Federal agencies for the purpose of collecting and reporting on delinquent debts as authorized by the Debt Collection Act of 1982 or the Debt Collection Improvement Act of 1996. A record from this system may be disclosed to any Federal, state, or local agency to conduct an authorized computer matching program in compliance with the Privacy Act of 1974, as amended, to identify and locate individuals who are delinquent in their repayment of certain debts owed to the U.S. Government. A record from this system may be used to prepare information on items considered income for taxation purposes to be disclosed to Federal, state, and local governments;

4. Law Enforcement and Investigation—where there is an indication of a violation or potential violation of a statute, regulation, rule, or order, records from this system may be shared with appropriate Federal, State, or local authorities either for purposes of obtaining additional information relevant to a FCC decision or for referring the record for investigation, enforcement, or prosecution by another agency;

5. Congressional Inquiries—when requested by a Congressional office in response to an inquiry by an individual made to the Congressional office for their own records;

6. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act; and

7. Breach Notification—a record from this system may be disclosed to appropriate agencies, entities, and persons when (1) the Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

The Broadcast Station Ownership database is the repository for all electronically filed ownership reports and associated information, including exhibits (e.g., organizational charts, appendices, scanned images, and all other supplementary documents and materials, etc.). All Form 323 filings must be submitted electronically (e.g., paper copy filings are not acceptable) via the Media Bureau Electronic Filing system at: http://www.fcc.gov/mb/elecfile.html.

RETRIEVABILITY:

Information in this system is publicly retrievable. The information may be viewed via the “Public Access” Search functionality in the Consolidated Database System (CDBS) at: http://www.fcc.gov/mb/elecfile.html by clicking on the “Ownership Search” link. Information may be retrieved by searching electronically using a variety of parameters including the call sign, facility ID number, service, file number, application type, channel, frequency, community of license city and state, name of the licensee/permittee, or name/address of the person or entity holding the interest reported on Form 323. All ownership data can also be downloaded via a set of files that correspond to database tables from the Media Bureau Public CDBS Database Files Web site: http://www.fcc.gov/mb/databases/cdbs. Information is retrieved internally via database commands by authorized FCC staff and contractors who have been granted permission to access the data.

SAFEGUARDS:

Information in these records and files is available to the public via the FCC Internet portal at: http://www.fcc.gov/mb/elecfile.html. Access to the ownership records housed in the CDBS databases is restricted to authorized MB supervisory and staff and ITC staff and contractors. Other employees and contractors may be granted access on a “need-to-know” basis. The CDBS network computer databases are protected by the FCC's security protocols, which include controlled access, passwords, and other security features. Information resident on the CDBS database server is backed-up routinely onto magnetic media. Back-up tapes are stored on-site and at a secured location.

RETENTION AND DISPOSAL:

The information in this system is limited to electronic files, records, and data, which includes:

(1) The information that pertains to current filing requirements; and

(2) The information that pertains to historical records, which is used for archival purposes.

Until the National Archives and Records Administration (NARA) approves the retention and disposal schedule, these records will be treated as permanent.

SYSTEM MANAGER(S) AND ADDRESS(ES):

Address inquiries to the Media Bureau (MB), Federal Communications Commission (FCC), 445 12th Street, SW., Washington, DC 20554.

NOTIFICATION PROCEDURE:

Address inquiries to the Media Bureau (MB), Federal Communications Commission (FCC), 445 12th Street, SW., Washington, DC 20554.

RECORD ACCESS PROCEDURES:

Address inquiries to the Media Bureau (MB), Federal Communications Commission (FCC), 445 12th Street, SW., Washington, DC 20554.

CONTESTING RECORD PROCEDURES:

Address inquiries to the Media Bureau (MB), Federal Communications Commission (FCC), 445 12th Street, SW., Washington, DC 20554.

RECORD SOURCE CATEGORIES:

The sources for the information in this system include all entities that are required to file an ownership report, either biennially or at other occasions, under §§ 73.3615, 73.6026, and 74.797 of the Commission's rules. These entities include, but are not limited to:

(1) Licensees, permittees, and respondents, and other individuals or entities with interests therein that are required to be reported on the Form 323 (as described below) who must either file FCC Form 323 or have their interests reported on Form 323 under 47 CFR 73.3615, 73.6026, and 74.797;

(2) Contact individuals, e.g., representatives, relating to commercial AM, FM, and TV broadcast stations, and/or newspapers that are subject to the Commission's media ownership rules, as required under 47 CFR 73.3555, etc.;

(3) Individuals with ownership or attributable interests in media companies subject to the Commission's ownership rules or otherwise required to be reported on FCC Form 323; and

(4) Individuals who are married to or otherwise related, i.e., parent-child or siblings, etc., to other individuals who have attributable, reportable, and/or ownership interests and who must either file FCC Form 323 or have their interests reported on FCC Form 323.

EXEMPTIONS CLAIMED FOR THE SYSTEM:

None.

Federal Communications Commission.
Marlene H. Dortch,
Secretary.

[FR Doc. E9-27665 Filed 11-18-09; 8:45 am]

BILLING CODE 6712-01-P